DEPARTMENT OF STATE

[Public Notice 6625]

Title: Shipping Coordinating Committee Meeting

The Shipping Coordinating Committee (SHC) will conduct an open meeting at 9:30 a.m. on Friday, June 26th, 2008, in Room 4202 of the United States Coast Guard Headquarters Building, 2100 2nd Street, SW., Washington, DC 20593. The purpose of the meeting is to prepare for the 59th Session of the International Maritime Organization (IMO) Marine Environment Protection Committee (MEPC 59) to be held at the IMO's London headquarters from July 13-17, 2009. The primary matters to be discussed at MEPC 59 include:

—Harmful aquatic organisms in ballast water;

—Recycling of ships;

—Prevention of air pollution from ships;

—Consideration and adoption of amendments to mandatory instruments;

—Interpretations of, and amendments to, MARPOL and related instruments;

—Implementation of the International Convention on Oil Pollution Preparedness,

Response and Cooperation (OPRC) and the OPRC-Hazardous and Noxious

Substances Protocol and relevant conference resolutions;

—Identification and protection of Special Areas and Particularly Sensitive Sea Areas;

—Inadequacy of reception facilities;

—Reports of sub-committees;

—Work of other bodies;

—Status of conventions;

—Harmful anti-fouling systems for ships;

—Promotion of implementation and enforcement of MARPOL and related Instruments;

—Technical Cooperation Sub-program for the Protection of the Marine

Environment;

—Role of the human element;

—Formal safety assessment;

—Development of a guidance document for minimizing the risk of ship strikes

with Cetaceans;

—Noise from commercial shipping and its adverse impacts on marine life;

—Work program of the Committee and subsidiary bodies;

—Application of the Committees' Guidelines; and

—Election of MEPC Chairman and Vice-Chairman for 2010.

Members of the public may attend the June 26th meeting of the SHC up to the seating capacity of the room. Due to security considerations, two valid, government-issued photo identification documents must be presented to gain entrance to the building. The Coast Guard Headquarters building is accessible by taxi and privately owned conveyance. Please note that parking in the vicinity of the building is extremely limited and that public transportation is not generally available. To facilitate attendance to this meeting of the SHC, those who plan to attend should contact the meeting coordinator, Lieutenant Commander Brian Moore—not later than 9:30 a.m. on Tuesday, June 23, 2009—by e-mail at brian.e.moore@uscg.mil; by phone at (202) 372-1434; or by writing to Commandant (CG-5224), U.S. Coast Guard Headquarters, 2100 Second Street, SW., Room 1601, Washington, DC 20593-0001.

Printed copies of documents associated with MEPC 59 will not be provided at this meeting. To request documents in electronic format (via e-mail or CD-ROM), please write to the address provided below, or request documents via the following Internet link: http://www.uscg.mil/hq/cg5/cg522/cg5224/imomepc.asp. Additional information regarding this and other SHC public meetings and associated IMO meetings may be found at: www.uscg.mil/imo.

Dated: May 18, 2009.
Mark Skolnicki,
Executive Secretary, Shipping Coordinating Committee, Department of State.

[FR Doc. E9-12302 Filed 5-26-09; 8:45 am]

BILLING CODE 4710-09-P